SMALL BUSINESS ADMINISTRATION

Revocation of License of Small Business Investment Company

Pursuant to the authority granted to the United States Small Business Administration by the Wind-Up Order of the United States District Court for the District of Columbia, dated September 27, 2011, the United States Small Business Administration hereby revokes the license of Women's Growth Capital Fund I, LLLP, a Delaware limited partnership, to function as a small business investment company under the Small Business Investment Company License No. 03730213 issued to Women's Growth Capital Fund I, LLLP, on June 17, 1998 and said license is hereby declared null and void as of September 27, 2011.

United States Small Business Administration.
Dated: May 15, 2012.
Sean J. Greene,
Associate Administrator for Investment.

[FR Doc. 2012-13134 Filed 5-30-12; 8:45 am]

BILLING CODE 8025-01-P